DEPARTMENT OF JUSTICE

[OMB 1140-0073]

Agency Information Collection Activities; Proposed eCollection eComments Requested; Furnishing of Explosives Samples

AGENCY: Bureau of Alcohol, Tobacco, Firearms and Explosives, Department of Justice.

ACTION: 30-Day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 30 days until August 22, 2025.

FOR FURTHER INFORMATION CONTACT: If you have comments especially on the estimated public burden or associated response time, suggestions, or need a copy of the proposed information collection instrument with instructions or additional information, please contact: Michael O'Lena, EIPB, by email at Michael.olena@atf.gov/eipb-informationcollection@atf.gov, or telephone at 202-648-7120.

SUPPLEMENTARY INFORMATION: The proposed information collection was previously published in the Federal Register, volume 90 page 19001, on Monday, May 5, 2025, allowing a 60-day comment period.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1140-0073. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a previously approved collection.

2. Title of the Form/Collection: Furnishing of Explosives Samples.

3. Agency form number, if any, and the applicable component of the Department of Justice sponsoring the collection: Agency form number: None. Component: Bureau of Alcohol, Tobacco, Firearms and Explosives, U.S. Department of Justice.

4. Affected public who will be asked or required to respond, as well as a brief abstract: Affected Public: State, local and tribal governments, individuals or households, Private Sector-for or not for profit institutions, Federal Government.

Abstract: Pursuant to 18 U.S.C. Chapter 40 § 843(i)(1), ATF requires licensed manufacturers and importers and persons who manufacture or import explosives materials or ammonium nitrate to submit samples at the request of the Director. This collection of information is contained in 27 CFR 555.110.

5. Obligation to Respond: The obligation to respond is mandatory per 18 U.S.C. Chapter 40 § 843(i)(1).

6. Total Estimated Number of Respondents: 100 respondents.

7. Estimated Time per Respondent: 30 minutes.

8. Frequency: Once annually.

9. Total Estimated Annual Time Burden: 50 total hours.

10. Total Estimated Annual Other Costs Burden: ATF estimates an additional cost to each respondent of $20 for the cost of the explosive materials. However, the regulations at 27 CFR 555.110 provide for reimbursement of the cost of the materials. Therefore, this cost is reported as 0. In addition, each respondent incurs $50 shipping costs, which results in a total estimated other cost of $5,000.

If additional information is required, contact: Darwin Arceo, Department Clearance Officer, Policy and Planning Staff, Justice Management Division, United States Department of Justice, Two Constitution Square, 145 N Street NE, 4W-218 Washington, DC 20530.

Dated: July 21, 2025.
Darwin Arceo,
Department Clearance Officer for PRA, U.S. Department of Justice.

[FR Doc. 2025-13849 Filed 7-22-25; 8:45 am]

BILLING CODE 4410-FY-P